DEPARTMENT OF DEFENSE

Defense Acquisition Regulations System

48 CFR Part 215

[Docket DARS-2022-0001]

Defense Federal Acquisition Regulation Supplement; Technical Amendment

AGENCY: Defense Acquisition Regulations System, Department of Defense (DoD).

ACTION: Final rule; technical amendment.

SUMMARY: DoD is making a needed technical amendment to update the Defense Federal Acquisition Regulation Supplement (DFARS).

DATES: Effective August 26, 2022.

FOR FURTHER INFORMATION CONTACT: Ms. Jennifer D. Johnson, Defense Acquisition Regulations System, telephone 703-717-8226.

SUPPLEMENTARY INFORMATION: This final rule amends DFARS 215.300 to provide an updated notice to contracting officers to see DFARS Procedures, Guidance, and Information (PGI) for additional guidance when conducting negotiated, competitive acquisition utilizing Federal Acquisition Regulation part 15 procedures.

List of Subjects in 48 CFR Part 215

Government procurement.

Jennifer D. Johnson,
Editor/Publisher, Defense Acquisition Regulations System.

Therefore, 48 CFR part 215 is amended as follows:

PART 215—CONTRACTING BY NEGOTIATION

1. The authority citation for 48 CFR part 215 continues to read as follows:

Authority: 41 U.S.C. 1303 and 48 CFR chapter 1.

2. Revise section 215.300 to read as follows:

215.300 Scope of subpart.

When conducting negotiated, competitive acquisitions utilizing FAR part 15 procedures, contracting officers shall follow the principles and procedures in the Director, Defense Pricing and Contracting memorandum provided at PGI 215.300.

[FR Doc. 2022-18410 Filed 8-25-22; 8:45 am]

BILLING CODE 5001-06-P